NUCLEAR REGULATORY COMMISSION

10 CFR Part 73

[NRC-2011-0014]

RIN 3150-AI49

Draft Regulatory Guide: Issuance, Availability

AGENCY: Nuclear Regulatory Commission.

ACTION: Notice Availability of Draft Regulatory Guide.

SUMMARY: The U.S. Nuclear Regulatory Commission (Commission or NRC) is issuing for public comment Draft Regulatory Guide, DG-5019, “Reporting and Recording Safeguards Events.” The DG-5019 describes methods that the staff of the NRC considers acceptable for licensees and certificate holders to report and record safeguards (i.e., security) events that are required under the proposed changes to Title 10 of the Code of Federal Regulations (10 CFR) 73.71, “Reporting and Recording of Safeguards Events,” and Appendix G to 10 CFR part 73, “Reportable and Recordable Safeguards Events.”

DATES: Submit comments on Draft Regulatory Guide, DG-5019, May 4, 2011. Comments received after this date will be considered if it is practical to do so, but the NRC is able to ensure consideration only for comments received on or before this date.

ADDRESSES: You may submit comments by any one of the following methods. Please include Docket ID: NRC-2011-0014 in the subject line of your comments. Comments submitted in writing or in electronic form will be posted on the NRC Web site and on the Federal rulemaking Web site at http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

To ensure efficient and complete comment resolution, you should reference the section and page numbers of DG-5019 to which the comment applies.

Federal rulemaking Web site: Go to http://www.regulations.gov and search for documents filed under Docket ID: NRC-2011-0014. Address questions about NRC dockets to Carol Gallagher, telephone: 301-492-3668; e-mail: Carol.Gallagher@nrc.gov.

Mail comments to: Cindy Bladey, Chief, Rules, Announcements, and Directives Branch (RADB), Division of Administrative Services, Office of Administration, Mail Stop: TWB-05-B01M, U.S. Nuclear Regulatory Commission, Washington, DC 20555-0001, or by fax to RADB at 301-492-3446.

You can access publicly available documents related to this document using the following methods:

NRC's Public Document Room (PDR): The public may examine and have copied, for a fee, publicly available documents at the NRC's PDR, Room O-1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The DG-5019 is available electronically under ADAMS Accession Number ML100830413. In addition, electronic copies of DG-5019 are available through the NRC's public Web site under Draft Regulatory Guides in the “Regulatory Guides” collection of the NRC's Electronic Reading Room at http://www.nrc.gov/reading-rm/doc-collections/.

Federal rulemaking Web site: Public comments and supporting materials related to this notice can be found at http://www.regulations.gov by searching for documents filed under Docket ID: NRC-2011-0014.

FOR FURTHER INFORMATION CONTACT: Phil Brochman, Office of Nuclear Security and Incident Response, U.S. Nuclear Regulatory Commission, Washington, DC 20555-0001; telephone: 301-415-6557; e-mail: Phil.Brochman@nrc.gov.

SUPPLEMENTARY INFORMATION: The NRC is issuing for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide is temporarily identified by its task number, DG-5019, which should be mentioned in all related correspondence. The DG-5019 is proposed Revision 2 of Regulatory Guide 5.62, dated November 1987. The current issuance of DG-5019 differs substantially from the proposed Revision 2 of Regulatory Guide 5.62 that was issued as DG-5019 and published in the Federal Register on July 6, 2007 (72 FR 37058). The DG-5019 describes methods that the staff of the NRC considers acceptable for licensees and certificate holders to report and record safeguards (i.e., security) events that are required under the proposed changes to 10 CFR 73.71 and Appendix G to 10 CFR part 73. See the proposed rule (Docket ID: NRC-2011-0018) published elsewhere in today's Federal Register.

This guide applies to a range of facilities and activities licensed or certified by the NRC. These facilities and activities include reactor facilities; special nuclear material (SNM) production, use, and storage facilities; spent nuclear fuel (SNF) and high-level radioactive waste (HLW) storage and disposal facilities; and the transportation of SNM, SNF, and HLW to or from such facilities. The NRC is issuing DG-5019 for comment in conjunction with DG-5020, “Applying for Enhanced Weapons Authority, Applying for Preemption Authority, and Accomplishing Firearms Background Checks under 10 CFR Part 73,” and the associated proposed rule. See the DG-5020 (Docket ID: NRC-2011-0015) proposed elsewhere in today's Federal Register.

Regulatory guides are not copyrighted, and Commission approval is not required to reproduce them.

Dated at Rockville, Maryland this 12th day of January 2011.
For the Nuclear Regulatory Commission.
Thomas H. Boyce,
Chief, Regulatory Guide Development Branch, Division of Engineering, Office of Nuclear Regulatory Research.

[FR Doc. 2011-1778 Filed 2-2-11; 8:45 am]

BILLING CODE 7590-01-P